DEPARTMENT OF ENERGY

Federal Energy Regulatory Commission

[Docket No. CP01-311-000]

Kinder Morgan Interstate Gas Transmission, LLC; Notice of Application

May 8, 2001.

Take notice that on April 27, 2001, Kinder Morgan Interstate Gas Transmission LLC (KMIGT), P.O. Box 281304, Lakewood, Colorado 80228, filed in Docket No. CP01-311-000 an application pursuant to Section 7(b) of the Natural Gas Act (NGA) for permission and approval to abandon by sale, certain secondary lateral pipelines, measuring and tap facilities located in various counties of the State of Nebraska. KMIGT further requests a finding that the facilities to be sold to Kinder Morgan Inc. (KMI), the purchasing party, nor KMI itself, would be subject to the Commission's jurisdiction under the NGA as a result of KMI's purchase of the facilities, all as more fully set forth in the application which is on file with the Commission and open to public inspection. This filing may be viewed on the web at http://www.ferc.fed.us/online/rims.htm (call 202-208-2222 for assistance).

KMIGT states that the facilities proposed for abandonment are currently utilized by KMIGT to make deliveries of natural gas to KMI at its local distribution systems. KMIGT further states that the secondary laterals are basically an extension of KMI's existing distribution systems and would better serve its retail customers if they were owned and operated by KMI.

It is said that the abandonment of these facilities would serve the public interest by enabling KMIGT to reconfigure its interstate pipeline into more of a typical trunkline system and would facilitate and simplify business transactions. The reconfiguration of assets, it is said, would provide KMIGT with more accurate and timely metering information. It is further said that the abandonment would have no material impact on KMIGT's cost of service nor would it result in or cause any interruption, disruption, or termination of the transportation service presently rendered by KMIGT.

Any questions regarding this application should be directed in writing to Skip George, Manager, Certificates, Kinder Morgan Interstate Gas Transmission, LLC, P.O. Box 281304, Lakewood, Colorado 80228-8304 or by telephone at (303) 914-4969.

Any person desiring to be heard or any person desiring to make any protests with reference to said application should on or before May 29, 2001, file with the Federal Energy Regulatory Commission, 888 First Street, NE., Washington, DC 20426, a motion to intervene or protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules. Comments, protests and interventions may be filed electronically via the internet in lieu of paper. See, 18 CFR 385.2001(a)(1)(iii) and the instructions on the Commission's web site at http://www.ferc.fed.us/efi/doorbell.htm.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that permission and approval for the proposed abandonment are required by the public convenience and necessity. If a motion for leave to intervene is timely filed, or if the Commission on its own motion believes that a formal hearing is required, further notice of such hearing will be duly given.

Under the procedure herein provided for, unless otherwise advised, it will be unnecessary for KMIGT to appear or be represented at the hearing.

Linwood A. Watson, Jr.,
Acting Secretary.

[FR Doc. 01-11974 Filed 5-11-01; 8:45 am]

BILLING CODE 6717-01-M